FEDERAL COMMUNICATIONS COMMISSION

47 CFR Part 73

[DA 03-584; MB Docket No. 03-52, RM-10657; MB Docket No. 03-53, RM-10658; MB Docket No. 03-54, RM-10659]

Radio Broadcasting Services; Dalhart, Kermit, and Leakey, TX

AGENCY: Federal Communications Commission.

ACTION: Proposed rule.

SUMMARY: This document proposes three new allotments in Dalhart, Kermit, and Leakey, Texas. The Audio Division requests comment on a petition filed by Linda Crawford proposing the allotment of Channel 261C at Dalhart, Texas, as the community's second FM commercial aural transmission service. Channel 261C can be allotted to Dalhart in compliance with the Commission's minimum distance separation requirements with a site restriction of 38.6 kilometers (24 miles) northwest to avoid a short-spacing to the license site of Station KOMX, Channel 262C2, Pampa, Texas. The reference coordinates for Channel 261C at Dalhart are 36-14-36 North Latitude and 102-52-36 West Longitude. See SUPPLEMENTARY INFORMATION, infra.

DATES: Comments must be filed on or before April 25, 2003, and reply comments on or before May 12, 2003.

ADDRESSES: Federal Communications Commission, 445 Twelfth Street, SW., Washington, DC 20554. In addition to filing comments with the FCC, interested parties should serve the petitioner, his counsel, or consultant, as follows: Linda Crawford, 3500 Maple Avenue #1320, Dallas, TX 75219; Al Boyd, 3607 Thomason, Midland, Texas 79703; and Katherine Pyeatt, 6655 Aintree Circle, Dallas, Texas 75214.

FOR FURTHER INFORMATION CONTACT: Rolanda F. Smith, Media Bureau, (202) 418-2180.

SUPPLEMENTARY INFORMATION: This is a synopsis of the Commission's Notice of Proposed Rule Making, MB Docket Nos. 03-52, 03-53, 03-54, adopted February 26, 2003, and released March 4, 2003. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC, 20554, telephone 202-863-2893, facsimile 202-863-2898, or via e-mail qualexint@aol.com.

The Audio Division requests comments on a petition filed by Al Boyd proposing the allotment of Channel 229A at Kermit, Texas, as the community's second FM commercial aural transmission service. Channel 229A can be allotted to Kermit in compliance with the Commission's minimum distance separation requirements at city reference coordinates. The reference coordinates for Channel 229A at Kermit are 31-51-27 North Latitude and 103-05-32 West Longitude. Since Kermit is located within 320 kilometers (199 miles) of the U.S.-Mexican border, concurrence of the Mexican government has been requested.

The Audio Division requests comments on a petition filed by Katherine Pyeatt proposing the allotment of Channel 257A at Leakey, Texas, as the community's fifth local aural transmission service. Channel 257A can be allotted to Leakey in compliance with the Commission's minimum distance separation requirements with a site restriction 11.4 kilometers (7.1 miles) west of the community. The reference coordinates for Channel 257A at Leakey are 29-44-41 North Latitude and 99-52-40 West Longitude. Since Leakey is located within 320 kilometers (199 miles) of the U.S.-Mexican border, concurrence of the Mexican government has been requested.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Channel 261C at Dalhart; by adding Channel 229A at Kermit; by adding Channel 257A at Leakey.

Federal Communications Commission.
John A. Karousos,
Assistant Chief, Audio Division, Media Bureau.

[FR Doc. 03-6093 Filed 3-12-03; 8:45 am]

BILLING CODE 6712-01-P